DEPARTMENT OF THE INTERIOR

Bureau of Land Management

[MT-924-1430-EU; MTM-93823]

Notice of Application for Disclaimer of Interest; Montana

AGENCY: Bureau of Land Management, Interior.

ACTION: Notice.

SUMMARY: The State of Montana has submitted an application for a recordable disclaimer of interest pursuant to section 315 of the Federal Land Policy and Management Act of 1976, as amended (43 U.S.C. 1745) and the regulations contained in 43 CFR 1864. A recordable disclaimer, if issued, will confirm that the United States has no valid interest in the subject lands. This notice is intended to inform the public of the pending application and the state's grounds for supporting it.

DATES: A final decision on the merit of the application will not be made until 90 days after the date of publication of this notice. During the 90-day period, interested parties may submit comments on the state's application, with a reference to serial No. MTM 93823.

ADDRESSES: Comments should be sent to: Cindy Staszak, Chief, Branch of Land Resources, BLM Montana State Office, 5001 Southgate Drive, Billings, Montana 59101.

FOR FURTHER INFORMATION CONTACT: Dee Baxter, BLM Montana State Office, 5001 Southgate Drive, Billings, Montana 59101; 406-896-5044.

SUPPLEMENTARY INFORMATION: On May 30, 2003, the State of Montana, Department of Natural Resources and Conservation, filed an application for disclaimer of interest for the lands described as follows:

Principal Meridian, Montana,

T. 26 N., R. 59 E.,

Sec. 5, portion of the SW¼SE¼; and

Sec. 8, portion of the N½NE¼.

Dr. Ray Breuninger, PhD, geologist, performed on-site research, literature review, and aerial photography review of islands, sand bars, and adjacent floodplains to produce a geologic analysis of the origin of land along the Missouri River in Richland County, northwest of Sidney, Montana. The data sources include the Missouri River Commission Survey of 1891, the 1901 meander map and field notes, a 1947 resurvey, and the 1958 resurvey, field notes, and related correspondence. He also analyzed aerial photos for 11 separate years between 1937 and 1997.

Based upon Dr. Breuninger's investigation, a review of the records and reports in the BLM Cadastral Survey office, and the investigation of Cadastral Survey Riparian Specialist, Mr. Frank Hardt, the State of Montana has proven its case by a preponderance of evidence. The BLM survey conducted in 1958 erred in surveying all of the lands in question as normal accretions to the Federal uplands. The lands encompassed by the above description, and now designated as tracts 37 and 38 and the easterly portion of tract 39, did originally form by vertical accretion below the low-water mark of the Missouri River (after statehood) to become islands and were not accretions to the Federal uplands.

The approximate acreage in the application is 40 acres. The westerly portion of tract 39 remains as accretion to lot 13, section 5, T. 26 N., R. 59 E., PMM.

All persons who wish to present comments, suggestions, or objections, in connection with the proposed disclaimer, by do so by writing to the undersigned authorized officer at the above address.

Dated: August 31, 2004.
Cindy Staszak,
Chief, Branch of Land Resources.
Editorial Note: This document was received at the Office of the Federal Register March 17, 2005.

[FR Doc. 05-5673 Filed 3-22-05; 8:45 am]

BILLING CODE 4310-$$-P